DEPARTMENT OF HOMELAND SECURITY

Coast Guard

33 CFR Part 165

[Docket No. USCG-2021-0670]

Safety Zones; Oregon Symphony Concert Fireworks, Willamette River, Portland, OR

AGENCY: Coast Guard, DHS.

ACTION: Notice of enforcement of regulation.

SUMMARY: The Coast Guard will enforce a safety zone regulation for the Oregon Symphony Concert Fireworks in Portland, OR on the Willamette River. This action is necessary to provide for the safety of life on navigable waters during fireworks displays. During the enforcement period, entry into, transit through, mooring, or anchoring within the safety zone is prohibited unless authorized by the Captain of the Port Sector Columbia River or a designated representative.

DATES: The regulations in 33 CFR 165.1315 will be enforced for the safety zone identified in the SUPPLEMENTARY INFORMATION section below from 8:30 p.m. to 11 p.m. on September 4, 2021.

FOR FURTHER INFORMATION CONTACT: If you have questions about this notice of enforcement, call or email LCDR Sean Morrison, Waterways Management Division, Marine Safety Unit Portland, Coast Guard; telephone 503-240-9319, email D13-SMB-MSUPortlandWWM@uscg.mil.

SUPPLEMENTARY INFORMATION: The Coast Guard will enforce a safety zone for the Oregon Symphony Concert Fireworks display found in 33 CFR 165.1315 in Portland, OR from 8:30 p.m. to 11 p.m. on September 4, 2021, on the Willamette River between Hawthorne Bridge and Marquam Bridge. The safety zone will include all navigable waters within 500 yards around the fireworks barge location of approximately 45°30′42″ N; 122°40′14″ W.

The special requirements listed in 33 CFR 165.1315 apply to the activation and enforcement of the safety zone. All vessel operators who desire to enter the safety zone must obtain permission from the Captain of the Port or their Designated Representative by contacting either the on-scene patrol craft on VHF CH 13 or CH 16 or the Coast guard Sector Columbia River Command Center via telephone at 503-861-6211. The Coast Guard may be assisted by other Federal, State, or local law enforcement agencies in enforcing of the safety zone.

In addition to this notice of enforcement in the Federal Register, the Coast Guard plans to provide the maritime community with extensive advanced notification of enforcement of the safety zone via the Local Notice to Mariners.

M. Scott Jackson,
Captain, U.S. Coast Guard, Captain of the Port Columbia River.

[FR Doc. 2021-18571 Filed 8-27-21; 8:45 am]

BILLING CODE 9110-04-P